NUCLEAR REGULATORY COMMISSION

[NRC-2012-0036]

Agency Information Collection Activities: Submission for the Office of Management and Budget Review; Comment Request

AGENCY: Nuclear Regulatory Commission.

ACTION: Notice of the Office of Management and Budget review of information collection and solicitation of public comment.

SUMMARY: The U.S. Nuclear Regulatory Commission (NRC) has recently submitted to the Office of Management and Budget (OMB) for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register Notice with a 60-day comment period on this information collection on March 5, 2012.

1. Type of submission, new, revision, or extension: Extension.

2. The title of the information collection: Requests to Non-Agreement States for Information.

3. Current OMB approval number: 3150-0200.

4. The form number if applicable: N/A.

5. How often the collection is required: 8 times per year.

6. Who will be required or asked to report: The 15 Non-Agreement States (13 States, the District of Columbia and the Commonwealth of Puerto Rico that have not signed Section 274(b) Agreements with the NRC).

7. An estimate of the number of annual responses: 120.

8. The estimated number of annual respondents: 15.

9. An estimate of the total number of hours needed annually to complete the requirement or request: 1,089.

10. Abstract: Requests may be made of Non-Agreement States that are similar to those of Agreement States to provide a more complete overview of the national program for regulating radioactive materials. This information would be used in the decision-making of the Commission. With Agreement States and as part of the NRC's cooperative post-agreement program with the States pursuant to Section 274(b), information on licensing and inspection practices, and/or incidents, and other technical and statistical information are exchanged. Therefore, information requests sought may take the form of surveys, e.g., telephonic and electronic surveys/polls and facsimiles.

The public may examine and have copied for a fee, publicly available documents, including the final supporting statement, at the NRC's Public Document Room, Room O-1F21, One White Flint North, 11555 Rockville Pike, Rockville, Maryland. The OMB clearance requests are available on the NRC's Web site: http://www.nrc.gov/public-involve/doc-comment/omb/. The document will be available on the NRC's Web site for 60 days after the signature date of this notice.

Comments and questions should be directed to the OMB reviewer listed below by August 31, 2012. Comments received after this date will be considered if it is practical to do so, but assurance of consideration cannot be given to comments received after this date.

Chad Whiteman, Desk Officer, Office of Information and Regulatory Affairs (3150-0200), NEOB-10202, Office of Management and Budget, Washington, DC 20503.

Comments can also be emailed to Chad_S_Whiteman@omb.eop.gov or submitted by telephone at 202-395-4718.

The NRC Clearance Officer is Tremaine Donnell, 301-415-6258.

Dated at Rockville, Maryland, this 26th day of July 2012.
For the Nuclear Regulatory Commission.
Tremaine Donnell,
NRC Clearance Officer, Office of Information Services.

[FR Doc. 2012-18779 Filed 7-31-12; 8:45 am]

BILLING CODE 7590-01-P